DEPARTMENT OF THE INTERIOR

Bureau of Land Management

[LLCAC05000 L14400000.KD0000 15XL1109AF]

Notice of Intent To Amend the Resource Management Plan and Prepare an Associated Environmental Assessment for the Ukiah Field Office, California, To Modify the Boundary of the Knoxville Area of Critical Environmental Concern and Identify Public Lands for Disposal

AGENCY: Bureau of Land Management, Interior.

ACTION: Notice.

SUMMARY: In accordance with the National Environmental Policy Act of 1969, as amended (NEPA), and the Federal Land Policy and Management Act of 1976, as amended (FLPMA), the Bureau of Land Management (BLM) Ukiah Field Office, Ukiah, California intends to prepare a Resource Management Plan (RMP) amendment with an associated Environmental Assessment (EA) to modify the boundary of the Knoxville Area of Environmental Concern (ACEC) and identify public lands for exchange in Lake, Napa and Yolo Counties. By this notice, the BLM is announcing the beginning of the scoping process to solicit public comments and identify issues.

DATES: This notice initiates the public scoping process for the RMP amendment and associated EA. Comments on issues may be submitted in writing until 30 days after the date of this notice in the Federal Register. The date(s) and location(s) of any scoping meetings will be announced at least 15 days in advance through the local news media, newspapers and the BLM Web site at: www.blm.gov/ca/ukiah. In order to be included in the analysis, all comments must be received prior to the close of the 30-day scoping period or 15 days after the last public meeting, whichever is later. Additional opportunities for public participation will be provided as appropriate.

ADDRESSES: You may submit comments on issues and planning criteria related to the RMP amendment EA by any of the following methods:

• Mail: Bureau of Land Management, Ukiah Field Office, 2550 North State Street, Ukiah, CA 95482

• Fax: 707-468-4027

• Email: blm_ca_ukiah_fo_web@blm.gov

FOR FURTHER INFORMATION CONTACT: The BLM Ukiah Field Office, telephone: 707-468-4000; address: Bureau of Land Management, Ukiah Field Office, 2550 North State Street, Ukiah, CA 95482; or email: blm_ca_ukiah_fo_web@blm.gov. Contact Ms. Jonna Hildenbrand to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Ukiah Field Office, Ukiah, California, intends to prepare an RMP amendment with an associated EA to modify the boundary of the Knoxville Area of Critical Environmental Concern and identify public lands for exchange. This notice announces the beginning of the scoping process, and seeks public input on issues and planning criteria. The planning area is located in Lake, Napa, and Yolo counties and encompasses approximately 170 acres of public land.

In 1999, the BLM Ukiah Field Office was approached by Homestake Mining Company of California, about a proposed land exchange. The proposal stated that the BLM would dispose of four non-contiguous, scattered, and mostly non-accessible federal parcels comprising 170 acres in Lake, Napa, and Yolo counties. The BLM would acquire portions of two private parcels comprising approximately 345 acres in Napa County, California.

The BLM initiated the exchange feasibility process in 2000 as required by the BLM's lands and realty policy and regulations. A feasibility analysis report was finalized for the proposed exchange and approved by the BLM California State Director with written concurrence and approval by the BLM Washington Office in 2007. The Record of Decision (ROD) for the Ukiah RMP was signed on September 25, 2006. During preparation of the Ukiah RMP, the BLM lands identified for disposal as part of the land exchange were not clearly depicted on the map. As a result, some of the parcels were mistakenly included within an ACEC.

Accordingly, the BLM is preparing to identify lands that were in the process of disposal prior to, during and after the ROD was signed. The RMP amendment will incorporate new relevant information and program guidance and policies developed since the 2006 ROD.

The proposed exchange would assist in meeting the goals and objectives of the RMP by acquiring willingly offered private lands to consolidate land ownership while also disposing of scattered tracts where federal management for recreation and resource enhancement is impractical. Additionally, this will satisfy agreements created prior to the RMP between all the parties involved in the exchange.

The purpose of the exchange is to acquire private lands to enhance legal public access primarily for recreational opportunities and values which include off highway vehicle use, camping, hunting, hiking, backpacking, mountain biking, and scenic and wildlife viewing within the Knoxville Recreation Area.

The purpose of the public scoping process is to determine relevant issues that will influence the scope of the environmental analysis, including alternatives, and guide the planning process. Preliminary issues for the plan amendment area have been identified by BLM personnel; Federal, State, and local agencies; and other stakeholders. The issues include recreation management, fire management, and the designation and management of special areas such as ACECs and public lands identified as suitable for disposal through land exchange under section 206 of FLPMA. Preliminary planning criteria include:

1. Compliance with FLPMA, NEPA, and all other applicable laws;

2. Coordination with local and county governments for analysis of economic and social impacts;

3. Government-to-government consultation with federally recognized Tribes;

4. Consideration of cost effectiveness of proposed actions and alternatives; and

5. Consideration of impacts to visitors and resources.

You may submit comments on issues and planning criteria in writing to the BLM at any public scoping meeting, or you may submit them to the BLM using one of the methods listed in the ADDRESSES section above. You should submit comments by the close of the 30-day scoping period or within 15 days after the last public meeting, whichever is later.

The BLM will provide opportunities for public participation as required by NEPA and the National Historic Preservation Act (NHPA). Information about historic and cultural resources within the area potentially affected by the proposed action will assist the BLM in identifying and evaluating impacts to such resources in the context of NEPA and NHPA.

The BLM will utilize and coordinate the NEPA scoping process to help fulfill the public involvement process under NHPA (54 U.S.C. 306108) as provided by 36 CFR 800.2(d)(e). The information about historic and cultural resources within the area potentially affected by the proposed action will assist the BLM in identifying and evaluating impacts to such resources.

The BLM will consult with Indian Tribes on a government-to-government basis in accordance with Executive Order 13175 and other policies. Tribal concerns, including impacts on Indian trust assets and potential impacts to cultural resources, will be given due consideration. Federal, State, and local agencies, along with Tribes and other stakeholders that may be interested in or affected by the proposed action the BLM is evaluating are invited to participate in the scoping process and, if eligible, may request or be requested by the BLM to participate in the development of the environmental analysis as a cooperating agency.

Before including your address, phone number, email address, or other personal identifying information in your comment, you should be aware that your entire comment, including your personal identifying information, may be made publicly available at any time. While you can ask us in your comment to withhold your personal identifying information from public review, we cannot guarantee that we will be able to do so. The BLM will evaluate identified issues and will place them into one of three categories:

1. Issues to be resolved in the plan amendment;

2. Issues to be resolved through policy or administrative action; or

3. Issues beyond the scope of this plan amendment.

The BLM will provide an explanation in the EA as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: Rangeland management, minerals and geology, outdoor recreation, archaeology, paleontology, wildlife and fisheries, lands and realty, hydrology, soils, and sociology and economics.

Authority: 40 CFR 1501.7 and 43 CFR 1610.2

Rich Burns,
Ukiah Field Manager.

[FR Doc. 2015-15794 Filed 6-26-15; 8:45 am]

BILLING CODE 4310-40-P